DEPARTMENT OF ENERGY

Federal Energy Regulatory Commission

[Docket No. ER02-900-000, et al.]

Mirant Sugar Creek, L.L.C., et al.; Electric Rate and Corporate Regulation Filings

February 4, 2002.

Take notice that the following filings have been made with the Commission. Any comments should be submitted in accordance with Standard Paragraph E at the end of this notice.

1. Mirant Sugar Creek, L.L.C.

[Docket No. ER02-900-000]

Take notice that on January 30, 2002, Mirant Sugar Creek, L.L.C. (Sugar Creek) tendered for filing with the Federal Energy Regulatory Commission (Commission) an application for an order accepting its FERC Electric Tariff No. 1, granting certain blanket approvals, including the authority to sell electricity at market-base rates, and waiving certain regulations of the Commission. Sugar Creek requested expedited Commission consideration. Sugar Creek requested that its Rate Schedule No. 1 become effective upon the earlier of the date the Commission authorizes market-based rate authority, or February 22, 2002. Sugar Creek also filed its FERC Electric Tariff No. 1.

Comment Date: February 20, 2002.

2. West Texas Utilities Company, American Electric Power Service Corporation

[Docket No. ER02-901-000]

Take notice that on January 30, 2002, West Texas Utilities Company (WTU) and American Electric Power Service Corporation (AEPSC), as designated agent for Central Power and Light Company and WTU, submitted for filing (1) a service agreement (the OATT Service Agreement) under which The City Of Colemen, Texas (Coleman) will take transmission service pursuant to Part IV of the Open Access Transmission Service Tariff of the American Electric Power System (AEP OATT); and (2) an Interconnection Agreement (Interconnection Agreement) between WTU and Coleman, implementing new arrangements attendant to converting the former Coleman Points of Delivery on WTU to Points of Interconnection with WTU.

WTU and AEPSC seek an effective date of January 1, 2002 for the two agreements and, accordingly, seek waiver of the Commission's notice requirements. Copies of the filing have been served on Coleman and on the Public Utility Commission of Texas.

Comment Date: February 20, 2002.

3. LG&E Power Monroe LLC

[Docket No. ER02-902-000]

Take notice that January 30, 2002, Progress Ventures, Inc., on behalf of LG&E Power Monroe LLC (LG&E Monroe), filed a tolling agreement between LG&E Monroe and LG&E Energy Marketing, Inc. (the Customer) under Section 205 of the Federal Power Act.

Copies of the filing were served upon the Customer and the Georgia Public Service Commission.

Comment Date: February 20, 2002.

4. Midwest Independent Transmission System Operator, Inc.

[Docket No. ER02-903-000]

Take notice that on January 30, 2002, pursuant to Section 205 of the Federal Power Act and Section 35.16 of the Commission's regulations, 18 CFR 35.16 (2001), the Midwest Independent Transmission System Operator, Inc. (Midwest ISO) submitted for filing a Notice of Succession for certain Transmission Service Agreements and Network Transmission Service and Operating Agreements held by Otter Tail Power Company (OTP).

Copies of this filing were sent to all applicable customers under the OTP Open Access Transmission Tariff by placing a copy of the same in the United States mail, first-class postage prepaid.

Comment Date: February 20, 2002.

5. Entergy Nuclear Generation Company

[Docket Nos. ER02-904-000]

Take notice that on January 30, 2002, Entergy Nuclear Generation Company (ENGC) tendered for filing with the Federal Energy Regulatory Commission (Commission) three long-term service agreements under its market-based rate tariff under which ENGC will make sales to Connecticut Municipal Electric Energy Cooperative and Constellation Power Source, Inc. This filing is made as an informational filing in response to filing requirements in the order granting ENGC's market-based rate authority.

Comment Date: February 20, 2002.

6. PPL Montana, LLC

[Docket No. ER02-905-000]

Take notice that on January 30, 2002, PPL Montana, LLC (PPL Montana), filed with the Federal Energy Regulatory Commission (Commission) a Confirmation Agreement between PPL Montana and Constellation Power Source, Inc. (CSPI) under PPL Montana's Market-Based Rate Tariff, FERC Electric Tariff, Revised Volume No. 1.

PPL Montana requests an effective date of January 1, 2002 for the Confirmation Agreement. PPL Montana states that a copy of this filing has been provided to CPSI.

Comment Date: February 20, 2002.

7. Camden Cogen, L.P.

[Docket No. ER02-906-000]

Take notice that on January 30, 2002, pursuant to Section 205 of the Federal Power Act, 16 USC 824d, and its market based rate authority, Camden Cogen, L.P. (Camden) submitted for filing a tolling agreement (designated as Service Agreement No. 1) between itself and El Paso Merchant Energy. Camden Cogen seeks an effective date for the service agreement of December 12, 2001.

Comment Date: February 20, 2002.

8. Arizona Public Service Company

[Docket No. ER02-499-001]

Take notice that on January 28, 2002, Arizona Public Service Company (APS) tendered for filing a request to withdraw the cancellation of Service Agreement FERC No. 198 to providing Firm Point-to-Point Transmission Service to Ak Chin Electric Utility Authority (AkChin) under APS” Open Access Transmission Tariff.

A copy of this filing has been served on Ak Chin and the Arizona Corporation Commission.

Comment Date: February 19, 2002.

9. Southern Company Services, Inc.

[Docket No. ER02-907-000]

Take notice that on January 30, 2002, Southern Company Services, Inc., as agent for Georgia Power Company (Georgia Power), tendered for filing the Full Requirements Service Agreement between Georgia Power and the City of Hampton, Georgia (City of Hampton) (the Service Agreement), as a service agreement under the Market-Based Rate tariff, FERC Electric Tariff, First Revised Volume No. 4 (Supersedes Original Volume No. 4) (the Market Based Rate Tariff) and is designated as Service Agreement No. 135. The Service Agreement provides the general terms and conditions for capacity and energy sales from Georgia Power to the City of Hampton commencing on January 1, 2002, and terminating on December 31, 2006.

Comment Date: February 20, 2002.

10. Southern Company Services, Inc.

[Docket No. ER02-908-000]

Take notice that on January 30, 2002, Southern Company Services, Inc. (SCS), acting on behalf of Alabama Power Company, Georgia Power Company, Gulf Power Company, Mississippi Power Company, and Savannah Electric and Power Company (collectively Southern Companies), filed four (4) long-term firm point-to-point service agreements under the Open Access Transmission Tariff of Southern Companies (FERC Electric Tariff, Fourth Revised Volume No. 5) (Tariff) with the following Transmission Customers: (1) Calpine Energy Services, LP for OASIS request 309193; (2) Coral Power, LLC for OASIS request 303682; (3) Calpine Energy Services, LP for OASIS request 310827; and (4) Carolina Power & Light Company for OASIS request 301344. For all four (4) agreements, Southern Companies request an effective date of January 1, 2002, which corresponds with the date upon which service commenced under each agreement.

Comment Date: February 20, 2002.

11. Arizona Public Service Company

[Docket No. ER02-909-000]

Take notice that on January 30, 2002, Arizona Public Service Company (APS) tendered for filing a Service Agreement to provide Network Integration Transmission Service under APS” Open Access Transmission Tariff to Pinnacle West Capital Corp. Marketing and Trading (Pinnacle).

A copy of this filing has been served on Pinnacle and the Arizona Corporation Commission.

Comment Date: February 20, 2002.

12. PJM Interconnection, L.L.C.

[Docket No. ER02-910-000]

Take notice that on January 30, 2002, PJM Interconnection, L.L.C. (PJM), tendered for filing the following seven executed agreements: (i) one umbrella agreement for short-term firm point-to-point transmission service with American Municipal Power-Ohio, Inc. (AMP-Ohio); and (ii) one umbrella agreement for non-firm point-to-point transmission service for AMP-Ohio.

PJM requested a waiver of the Commission's notice regulations to permit effective dates for the agreements that are within 30 days of the date of this filing. Copies of this filing were served upon AMP-Ohio, as well as the state utility regulatory commissions within the PJM control area.

Comment Date: February 20, 2002.

13. Elwood Energy III, LLC

[Docket No. ER02-911-000]

Take notice that on January 30, 2002, Elwood Energy III, LLC tendered for filing a Notice of Cancellation of its Market-Based Rate Schedule, FERC Electric Tariff, Original Volume No. 1. Elwood III requests an effective date of January 31, 2002.

Comment Date: February 20, 2002.

14. American Electric Power Service Corporation

[Docket No. ER02-913-000]

Take notice that on January 30, 2002, the American Electric Power Service Corporation (AEPSC), tendered for filing (1) executed Long-Term Firm Point-to-Point Transmission Service Agreement Specifications for AEPSC's Merchant Organization Power Marketing and Trading Division, Allegheny Energy Supply Company, American Municipal Power—Ohio, Cleveland Public Power, Consumers Energy Company, Constellation Power Source, Inc., Dynegy Power Marketing, Inc., Engage Energy America Corporation, and Exelon Generation Company, LLC, (2) an unexecuted Network Integration Transmission Service Agreement for Southern Indiana Gas and Electric d/b/a/ Vectren Energy Delivery, Inc., Hoosier Energy Rural Electric Cooperative, and Southern Indiana Rural Electric Cooperative, collectively operating as the “Joint Operating Group”, and (3) a Notice of Cancellation of a Network Integration Transmission Service Agreement previously designated as Service Agreement No. 167. All of these agreements are pursuant to the AEP Companies' Open Access Transmission Service Tariff (OATT) that has been designated as the Operating Companies of the American Electric Power System FERC Electric Tariff, Second Revised Volume No. 6. AEPSC requests waiver of notice to permit the Service Agreements to be made effective for service on and after January 1, 2002.

A copy of the filing was served upon the Parties and the state utility regulatory commissions of Arkansas, Indiana, Kentucky, Louisiana, Michigan, Ohio, Oklahoma, Tennessee, Texas, Virginia and West Virginia.

Comment Date: February 20, 2002.

15. PJM Interconnection, L.L.C.

[Docket No. ER02-917-000]

Take notice that on January 30, 2002, PJM Interconnection, L.L.C. (PJM), tendered for filing the following seven executed agreements: (i) One network integration transmission service agreement with PPL Energy Plus, LLC (PPL); (ii) three firm point-to-point transmission service agreements with Exelon Generation Company, LLC (Exelon) for long-term firm transmission service; (iii) one umbrella agreement for firm point-to-point transmission service for J. Aron & Co. (J. Aron); (iv) one umbrella agreement for non-firm point-to-point transmission service for J. Aron; (v) one umbrella agreement for non-firm point-to-point transmission service agreement for AmerGen Energy Company, L.L.C. (AmerGen); (vi) one umbrella agreement for non-firm point-to-point transmission service for TEC Trading, Inc. (TEC); and (vii) one network integration service agreement for Allegheny Energy Supply Co., LLC (Allegheny). PJM requested a waiver of the Commission's notice regulations to permit effective dates for the agreements that are within 30 days of this filing.

Copies of this filing were served upon PPL, Exelon, J. Aron, AmerGen, TEC, and Allegheny, as well as the state utility regulatory commissions within the PJM control area.

Comment Date: February 20, 2002.

16. Elwood Energy II, LLC

[Docket No. ER02-920-000]

Take notice that on January 30, 2002, Elwood Energy II, LLC tendered for filing a Notice of Cancellation of its Market-Based Rate Schedule, FERC Electric Tariff, Original Volume No. 1. Elwood II requests an effective date of January 31, 2002.

Comment Date: February 20, 2002.

17. PJM Interconnection, L.L.C.

[Docket No. ER02-921-000]

Take notice that on January 30, 2002, PJM Interconnection, L.L.C. (PJM), submitted for filing amendments to Schedules 9-2 and 9-7 of the PJM Open Access Transmission Tariff that will implement PJM West (PJM Interconnection FERC Electric Tariff Fifth Revised Volume No. 1). Schedule 9-2 is amended to directly assign Actual Costs for Non-Divisional Costs of projects instituted for the PJM Reliability Assurance Agreement Among Load Serving Entities or the PJM West Reliability Assurance Agreement Among Load Serving Entities in the PJM Region to whichever is applicable. Similarly, Schedule 9-7 is amended to directly assign Actual Costs of Non-Divisional Costs of Capacity Resource and Obligation Management (CROM) Service for the PJM Control Area to the East CROM Service Rate and to directly assign Actual Costs for Non-Divisional Costs of service provided for the PJM West Region to the West CROM Service Rate.

PJM requests a waiver of the Commission's notice regulations to permit an effective date of March 1, 2002, for the amendments, but recognizes that the amendments will not become effective until the Commission designates an effective date for PJM West.

Copies of this filing were served upon all PJM members, each state electric utility regulatory commission in the PJM control area, and all parties listed on the official service list in FERC Docket No. RT01-98-000.

Comment Date: February 20, 2002.

Standard Paragraph:

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Maglaie R. Salas,
Secretary.

[FR Doc. 02-3201 Filed 2-8-02; 8:45 am]

BILLING CODE 6717-01-P